EXPORT-IMPORT BANK OF THE UNITED STATES

Notice of Open Special Meeting of the Advisory Committee of the Export-Import Bank of the United States (Ex-IM Bank): Correction

AGENCY: Export-Import Bank of the United States.

ACTION: Notice; correction.

SUMMARY: The Advisory committee was established by Public Law 98-181, November 30, 1983, to advise the Export-Import Bank on its programs and to provide comments for inclusion in the reports of the Export-Import Bank of the United States to Congress.

FOR FURTHER INFORMATION CONTACT: Susan Houser, 202-565-3232.

Correction

In the Federal Register of November 19, 2007, in FR Doc. 07-5717, on page 65021, in the middle column, in line 21, correct the “Time and Place” caption to read:

Time and Place: Thursday, December 6, 2007, from 9:30 a.m. to 12 p.m. The meeting will be held at Ex-Im Bank in the Main Conference Room 1143, 811 Vermont Avenue, NW., Washington, DC 20571.

Dated: November 21, 2007.
Kamil P. Cook,
Deputy General Counsel.

[FR Doc. 07-5854 Filed 11-27-07; 8:45 am]

BILLING CODE 6690-01-M